DEPARTMENT OF DEFENSE

[OMB Control Number 0704-0229]

Information Collection Requirement; Defense Federal Acquisition Regulation Supplement; Foreign Acquisition

AGENCY: Department of Defense (DoD).

ACTION: Correction to notice.

SUMMARY: DoD is issuing a correction to the notice published at 65 FR 63844 on October 25, 2000, that requested comments regarding a proposed extension of an approved information collection requirement. The notice inadvertently omitted recordkeeping hours from the estimate of annual burden hours shown for the information collection requirement.

FOR FURTHER INFORMATION CONTACT: Ms. Amy Williams, Defense Acquisition Regulations Council, OUSD (AT&L)DP(DAR), IMD 3C132, 3062 Defense Pentagon, Washington, DC 20301-3062. Telephone (703) 602-0288; telefax (703) 602-0350.

Correction

In the issue of Wednesday, October 25, 2000, on page 63844, in the third column, in the SUPPLEMENTARY INFORMATION section, the entry “Annual Burden Hours” is corrected to read as follows:

Annual Burden Hours: 374,268 (74,173 reporting hours; 300,095 recordkeeping hours).

Michele P. Peterson,
Executive Editor, Defense Acquisition Regulations Council.

[FR Doc. 00-28003 Filed 10-31-00; 8:45 am]

BILLING CODE 5000-04-M